DEPARTMENT OF JUSTICE

[AAG/A Order No. 006-2004]

Privacy Act of 1974; System of Records

AGENCY: Department of Justice.

ACTION: Notice of modified system of records.

SUMMARY: Pursuant to the provisions of the Privacy Act of 1974 (5 U.S.C. 552a), the United States Marshals Service (USMS), Department of Justice, is issuing public notice of its proposal to modify the system of records entitled “U.S. Marshals Service Prisoner Processing and Population Management/Prisoner Tracking System (PPM/PTS), JUSTICE/USM-005.” This system of records was last published in the Federal Register on November 8, 1999 (64 FR 60836). Title 5 U.S.C. 552a(e)(4) and (11) provide that the public be given a 30-day period in which to comment on routine uses. The Office of Management and Budget (OMB), which has oversight responsibility under the Act, requires a 40-day period in which to review the system modifications. The public, OMB and Congress are invited to comment on the modifications to this system.

DATES: The proposed changes will be effective June 7, 2004, unless comments are received that result in a contrary determination.

ADDRESSES: Submit written comments to the Department of Justice (DOJ), ATTN: Mary E. Cahill, Management and Planning Staff, Justice Management Division, Washington, DC 20530 (Room 1400, NPB).

FOR FURTHER INFORMATION CONTACT: Mary E. Cahill at (202) 307-1823.

SUPPLEMENTARY INFORMATION: Modifications to the USMS PPM/PTS system of records expands the category of individuals covered by the system, corrects the office address for the primary system, describes additional locations of certain records in the system, corrects the Internet location of addresses for USMS district offices, clarifies the location of certain medical records, clarifies existing routine uses, adds certain routine uses, and updates the retrieval, safeguards and retention and disposal sections.

In accordance with 5 U.S.C. 552a(r), the Department has provided a report on the modified system to OMB and the Congress. A description of this system is reprinted below.

Dated: April 21, 2004.
Paul R. Corts,
Assistant Attorney General for Administration.

JUSTICE/USM-005

System name:

U.S. Marshals Service Prisoner Processing and Population Management/Prisoner Tracking System (PPM/PTS).

Security classification:

Limited Official Use.

System location:

Primary System: Prisoner Services Division, U.S. Marshals Service, 11th Floor, CS-4, Washington, DC 20530-1000.

Decentralized Segments: Each district office of the U.S. Marshals Service (USMS) maintains only files on prisoners taken into custody of the U.S. Marshal for the respective district. The addresses of USMS district offices are on the Internet at (http://www.usmarshals.gov).

Centralized Segment: The Contractor with whom the USMS has contracted to establish and manage a nationwide integrated health care delivery system and to process and pay medical claims will maintain a single site for appropriate paper documents (e.g., invoices) and automated files online related to these activities (e.g., names and addresses of hospitals, physicians and other health care providers and support service systems).

Medical Records: Records generated by community physicians, hospitals, and ancillary support service systems developed by the Contractor as participants in the Preferred Provider Network (PPN) to deliver health care services for USMS prisoners are maintained by the respective offices of these licensed providers. Addresses of these licensed providers may be obtained by contacting the USMS Office of Interagency Medical Services (OIMS), Prisoner Services Division at the address above.

Categories of individuals covered by the system:

Prisoners taken into custody of the U.S. Marshal and providers of prisoner health care services under the USMS Managed Health Care Contract.

Categories of records in the system:

Any and all information necessary to complete administrative processes, safekeeping, health care, and disposition of individual Federal prisoners who are in custody pending criminal proceedings, together with any law enforcement related records generated during such custody. Records include a compilation of basic information on each prisoner taken into custody of the U.S. Marshal covering identifying data, the reason for U.S. Marshal custody (e.g., Federal indictment, complaint, or writ), the court disposition of charges, dates of custody, and institutions to which committed or housed. Also included are Form USM-129, Prisoner Custody, Detention and Disposition Record (formerly DJ-100); prisoner photograph; personal history statement; fingerprint card; identification record; detainer notice; speedy trial notice; prisoner remand or order to deliver prisoner, and receipt for U.S. prisoner; property receipt; court records including writs, bail/bond release information, judgment and commitment and other court orders; prisoner alert notice; prisoner complaints or serious incident reports (and related investigatory information) filed by either the prisoner or by officials or by other individuals at the institution where the prisoner is housed and covering a wide range of potentially serious issues, e.g., medical treatment of prisoners, and attempted escapes or alleged prisoner misconduct or criminal activity; designation requests to Bureau of Prisons (BOP) and BOP responses; information identifiable to informants, protected witnesses, and confidential sources; access codes and data entry codes and message routing symbols used to communicate with law enforcement officials regarding the custody and safekeeping of prisoners; and prisoner transportation requests to the Prisoner Transportation Division (and any related records) which may include sensitive security data. Medical records included in this system consist of nurses' notes of medical problems, diagnosis, treatment recommended; names of health care providers at the housing unit, social workers, attorneys, family members and USMS contact personnel; special issue or treatment notices; names and addresses of community treatment facilities, physicians and other community health care providers and support service systems, dates of service, provider tax identification numbers; medical care given, cost of care, and billing records. Medical records generated by health care providers may be included in this system of records, as necessary for continuity of care/appropriate care or infectious disease control.

Authority for maintenance of the system:

18 U.S.C. 3149, 3193, 3604, 3621, 4002, 4006, 4086, 4285; 28 U.S.C. 509, 510, 568, 569; 5 U.S.C. 301; 44 U.S.C. 3101; and 28 CFR 0.111.

Purpose(s):

The Prisoner Processing and Population Management/Prisoner Tracking System (PPM/PTS) is maintained to cover law enforcement and security related records which are generated in the local USMS district offices in connection with the processing, safekeeping, and disposition of Federal prisoners who are in custody pending criminal proceedings. Medical records included in this system assist consultation and coordination between the USMS district office, the housing unit, treatment facility, health care provider, transportation facility, and other Federal agencies, e.g., BOP, to ensure that prisoners in custody of the U.S. Marshal are given proper treatment. Through USMS nursing staff, districts are assisted in determining medical treatment necessary while the prisoner is in custody of the U.S. Marshal and in ensuring the prisoner's medical clearance for travel.

Routine uses of records maintained in the system, including categories of users and purposes of such uses:

Relevant records or information may be disclosed under subsection (b)(3) of the Privacy Act as follows:

1. To other Federal, State, local or foreign law enforcement agencies, contract detention or medical facilities and health care providers (1) who provide temporary custody or housing or care of prisoners, or who otherwise require information (a) to protect the safety and/or health of the prisoners, the public, and of law enforcement officials or (b) to otherwise ensure fair and proper treatment of prisoners during custody and transfer of custody or (2) who may also assist the USMS in pursuing any necessary inquiry/investigation of complaints, alleged misconduct or criminal activity. For example, relevant records or information may be disclosed to secure the safe and efficient transfer of prisoners to other jurisdictions, to court appearances, or to the designated institution for service of sentence; to ensure that appropriate credit for time in custody is given; that appropriate medical treatment is provided; that all rights of the prisoner, whether statutory, humanitarian, or otherwise, are provided and protected; and to elicit information from which to initiate an inquiry/investigation and/or respond to prisoner complaints and reports of alleged misconduct or criminal activity; or, conversely, to enable those entities to respond to, or provide information relating to, such prisoner complaints or reports of misconduct or criminal activity.

2. Where a record, either on its face or in conjunction with other information, indicates a violation or potential violation of law—criminal, civil, or regulatory in nature—the relevant records may be referred to the appropriate Federal, State, local, foreign, or tribal law enforcement authority or other appropriate agency charged with the responsibility of investigating or prosecuting such a violation or enforcing or implementing such law.

3. To Federal, state or local public health agencies for infectious disease control.

4. In an appropriate proceeding before a court, or administrative or adjudicative body, when the Department of Justice determines that the records are arguably relevant to the proceeding; or in an appropriate proceeding before an administrative or adjudicative body when the adjudicator holds the records to be relevant to the proceeding.

5. To an actual or potential party to litigation or the party's authorized representative for the purpose of negotiation or discussion on such matters as settlement, plea bargaining, or in informal discovery proceedings.

6. To the news media and the public pursuant to 28 CFR 50.2 unless it is determined that release of the specific information in the context of a particular case would constitute an unwarranted invasion of personal privacy.

7. To a Member of Congress or staff acting upon the Member's behalf when the Member or staff requests the information on behalf of and at the request of the individual who is the subject of the record.

8. To the National Archives and Records Administration (NARA) in records management inspections conducted under the authority of 44 U.S.C. 2904 and 2906.

9. To the extent that it is appropriate, relevant and necessary to enable the Contractor and/or subcontractor(s) to ensure continuity of care/appropriate health care for USMS prisoners, to process and pay medical claims, and to carry out program performance evaluation responsibilities.

10. To appropriate officials and employees of a Federal agency or entity which requires information relevant to a decision concerning the hiring, appointment, or retention of an employee; the issuance, renewal, suspension, or revocation of a security clearance; the execution of a security or suitability investigation; the letting of a contract, or the issuance of a grant or benefit.

11. To Federal, State, local, tribal, or foreign licensing agencies or associations which require information concerning the suitability or eligibility of an individual for a license or permit.

12. A record may be disclosed to designated officers and employees of State or local (including the District of Columbia), or tribal law enforcement or detention agencies in connection with the hiring or continued employment of an employee or contractor, where the employee or contractor would occupy or occupies a position of public trust as a law enforcement officer or detention officer having direct contact with the public or with prisoners or detainees, to the extent that the information is relevant and necessary to the recipient agency's decision.

13. To contractors, grantees, experts, consultants, students, and others performing or working on a contract, service, grant, cooperative agreement, or other assignment for the Federal Government, when necessary to accomplish an agency function related to this system of records.

14. The Department of Justice may disclose relevant and necessary information to a former employee of the Department for purposes of: responding to an official inquiry by a Federal, state, or local government entity or professional licensing authority, in accordance with applicable Department regulations; or facilitating communications with a former employee that may be necessary for personnel-related or other official purposes where the Department requires information and/or consultation assistance from the former employee regarding a matter within that person's former area of responsibility.

Policies and procedures for storing, retrieving, accessing, retaining, and disposing of records in the system:

Storage:

Information is stored in standard file cabinets. Duplicate copies of certain paper and electronic records are stored on magnetic discs.

Retrievability:

Information is retrieved by name and/or number of prisoner, and/or health care provider. Records retrieved by name or number of health care provider will consist of the provider's address and, by name and number of prisoners treated, claim number, dates of service, nature of service, amount billed, USMS amount allowed, amount saved, and percentage saved.

Safeguards:

Paper records are stored in locked files. Access to computerized data is restricted through user identification and discrete password functions. In addition, USMS district and headquarters offices are secured behind locked doors around the clock and access is restricted to USMS personnel with official identification.

All USMS contractors must have personnel security clearances commensurate with the highest level of information processed by the system, in this case Limited Official Use. Encryption technology shall be applied to passwords and symmetric or private asymmetric keys, activities of a system administrator or for system maintenance, and information stored on laptop computers. All information technology systems within a component are subject to the certification and accreditation process.

Retention and disposal:

General prisoner records are kept in active files until a prisoner has been transferred from the custody of USMS. After a prisoner leaves USMS custody, the file is closed, and at the end of the year, closed files are separated from active files. Closed files are maintained for one year after separation, then are transferred to a Federal Records Center, and are destroyed after 10 years, or sooner, if ordered by the Court. This does not apply to records maintained by the Contractor, which are discussed below.

The Contractor will maintain all appropriate paper documents (i.e., invoices, etc.) and automated online files for the duration of the contract performance. Computer storage media containing Limited Official Use information will be overwritten or degaussed prior to release of the storage media outside the USMS. At the end of the contract, the contractor shall turn over all paper documents and an automated file of the database offline to the USMS within two weeks of contract expiration. All paper documents and automated files of the database will be maintained in accordance with the General Records Schedule 6, Item 1a (Accountable Officers' Files), as published by NARA, unless a longer retention period is necessary because of pending administrative or judicial proceedings.

The retention and disposal procedures for this system of records are in accordance with the NARA disposition authority for the USMS which is NI 527-99-1, or the General Records Schedule as appropriate.

System manager(s) and address:

Assistant Director, Prisoner Services Division, United States Marshals Service, 11th Floor, CS-4, Washington, DC 20530-1000.

Notification procedure:

Same as “Record access procedures.”

Record access procedures:

Requests for access must be in writing and should be addressed to the System Manager named above, Attention: FOI/PA Officer. The envelope and letter should be clearly marked “Privacy Act Access Request.” The request should include a general description of the records sought and must include the requesters's full name, current address, and date and place of birth. The request must be signed, dated, and either notarized or submitted under penalty of perjury. Some information may be exempt from access provisions as described in the section entitled “Exemptions Claimed for the System.” An individual who is the subject of a record in this system may access those records that are not exempt from disclosure. A determination whether a record may be accessed will be made at the time a request is received.

Contesting record procedures:

Individuals desiring to contest or amend information maintained in the system should direct their request to the system manager listed above, Attention: FOI/PA Officer, stating clearly and concisely the identifying information required above in “Record access procedures”, what information is being contested, the reasons for contesting it, and the proposed amendment to the information sought. Some information may be exempt from contesting record procedures as described in the section entitled “Exemptions Claimed for the System.” An individual who is the subject of a record in this system may amend those records that are not exempt. A determination whether a record may be amended will be made at the time a request is received.

Record source categories:

Information is received from the prisoner, the courts, Federal, State, local, tribal and foreign law enforcement agencies, and medical care professionals.

Exemptions claimed for the system:

The Attorney General has exempted this system from subsections (c)(3) and (4), (d), (e)(1), (2), (3), (e)(5) and (e)(8) and (g) of the Privacy Act pursuant to 5 U.S.C. 552a(j)(2). Rules have been promulgated in accordance with the requirements of 5 U.S.C. 553(b), (c) and (e) and have been published in the Federal Register. The rules are codified at 28 CFR 16.101(q) and (r).

[FR Doc. 04-9647 Filed 4-27-04; 8:45 am]

BILLING CODE 4410-04-P